DEPARTMENT OF TRANSPORTATION

National Highway Traffic Safety Administration

[Docket No. NHTSA 2002-16042]

Reports, Forms, and Recordkeeping Requirements Agency Information Collection Activity Under OMB Review

AGENCY: National Highway Traffic Safety Administration (NHTSA), DOT.

ACTION: Emergency Federal Register notice.

SUMMARY: NHTSA has submitted the following request for emergency processing of a public collection of information to the Office of Management and Budget (OMB) for review and clearance under the Paperwork Reduction Act of 1995 (Pub. L. 104-13, 44 U.S.C. Chapter 35). This notice announces that the Information Collection Request (ICR) abstracted below has been forwarded to OMB for review and comment. The ICR describes the nature of the collection of information and its expected burden on the public.

This document describes a collection of information by special order for tire pressure monitoring system (TPMS) data from major motor vehicle manufacturers and TPMS suppliers that have a presence in the USA. NHTSA seeks OMB approval of that collection.

Comments: Comments should be directed to the Office of Information and Regulatory Affairs, Office of Management and Budget, 725 Seventeenth Street, NW., Washington, DC 20503, Attention: Desk Officer for the National Highway Traffic Safety Administration.

DATES: OMB approval was granted on September 9, 2003.

FOR FURTHER INFORMATION CONTACT: Dorothy Nakama, Office of the Chief Counsel, NHTSA, 400 Seventh Street, SW., Room 5219, Washington, DC 20590. Ms. Nakama's telephone number is (202) 366-2992.

SUPPLEMENTARY INFORMATION:

National Highway Traffic Safety Administration

Title: Special Order for Tire Pressure Monitoring Systems.

OMB Clearance Number—2127-0633.

Expiration Date of Approval—December 31, 2003.

Summary of Collection of Information—The information requested from the vehicle manufacturers includes a list of all vehicle models available for sale or lease in the USA that indicates the motor vehicle manufacturers' actual or planned TPMS for each vehicle model for model years (MY) 2001 to 2008. The information requested from TPMS suppliers includes current and future production capability of TPMSs for motor vehicles available for sale in the USA.

Description of the Likely Respondents (Including Estimated Number and Frequency of Responses to the Collection of Information)

The tire pressure monitoring system data will be collected from:

(1) Vehicle manufacturers that sell light vehicles having a gross vehicle weight rating of less than 10,000 pounds (except motorcycles, low-speed vehicles, and trailers) in the United States.

(2) TPMS suppliers that manufacture for sale TPMSs for the above vehicles.

This information will be provided by the respondents in a prescribed electronic readily available format, such as Microsoft Word and Microsoft Excel, for ease of searching, storing, and evaluation.

For both groups of manufacturers, the company that historically reports phase-in compliance information to the agency will collect the data from their respective subsidiaries or affiliates. This comports with the manner in which each manufacturer complies with other phase-in requirements.

This information will be used by NHTSA to determine the lead-time and phase-in schedule needed by vehicle manufacturers to comply with a Federal Motor Vehicle Safety Standard (FMVSS) concerning TPMSs.

Estimate of the Total Annual Reporting and Recordkeeping Burden of the Collection of Information

NHTSA estimates that the requested information is readily available from records already kept and maintained by the potential respondents. NHTSA believes that the burden incurred by vehicle manufacturers will be limited to a review of actual production or planned production previously determined by the respondent to determine the type of TPMS that was or will be installed in the vehicles. For TPMS suppliers, the burden should be less, as they will state current capacity and estimate future capacity to supply vehicle manufacturers. Also, this is a one-time request with no recurring costs. Taking these factors into account, NHTSA estimates that 65 burden-hours of time per vehicle manufacturer are sufficient for even the largest manufacturers with several makes and models. For TPMS suppliers, the burden is less since the suppliers are not as complex as vehicle manufacturers. As such, NHTSA estimates that 30 burden-hours per TPMS supplier are sufficient for even the largest supplier. It is estimated that this collection affects approximately 27 respondents. The estimates of the burden-hours on the respondents is as follows:

Automobile manufacturers that sell light vehicles in the U.S. that weigh less than 10,000 pounds GVWR (except motorcycles, low-speed vehicles, and trailers) | General Motors DaimlerChrysler Toyota etc., for a total of 14 manufacturers | 65 hours per company.
TPMS manufacturers that sell original equipment TPMs for the above vehicles | TRW Delphi Visteon etc., for a total of 13 suppliers | 30 hours per company.
Total | 27 companies | 1300 burden-hours.

Estimate of the Total Annual Costs of the Collection of Information

There are no annual or recurring costs to respondents associated with this one-time data collection. The only cost incurred by the Federal Government, beyond normal overhead costs associated with the daily activities of NHTSA's Office of Rulemaking, is 20 hours for agency personnel to analyze the data received as a result of this collection. Each hour is estimated to cost $40.00 for a total cost of $800 ($40.00 × 20).

Issued: September 10, 2003.
Jacqueline Glassman,
Chief Counsel.

[FR Doc. 03-23409 Filed 9-10-03; 1:01 pm]

BILLING CODE 4910-59-P